ENVIRONMENTAL PROTECTION AGENCY

[FRL-6982-9]

Clean Water Act Section 303(d): Availability of Total Maximum Daily Loads (TMDLs)

AGENCY: Environmental Protection Agency (EPA).

ACTION: Notice of availability.

SUMMARY: This notice announces the availability for comment of the administrative record file for one TMDL prepared by EPA Region 6 for waters listed in Louisiana's Mermentau and Vermilion/Teche river basins, under section 303(d) of the Clean Water Act (CWA). EPA prepared this TMDL in response to a Court Order dated October 1, 1999, in the lawsuit Sierra Club, et al. v. Clifford et al., No. 96-0527, (E.D. La.). Under this court order, EPA is required to prepare TMDLs when needed for waters on the Louisiana 1998 section 303(d) list by December 31, 2007.

DATES: Comments on this TMDL must be submitted in writing to EPA on or before June 22, 2001.

ADDRESSES: Comments on this TMDL should be sent to Ellen Caldwell, Environmental Protection Specialist, Water Quality Protection Division, U.S. Environmental Protection Agency Region 6, 1445 Ross Ave., Dallas, TX 75202-2733. For further information, contact Ellen Caldwell at (214) 665-7513. The administrative record file for this TMDL is available for public inspection at this address as well. Copies of the TMDL and its respective calculations may be viewed at www.epa.gov/region6/water/tmdl.htm or obtained by calling or writing Ms. Caldwell at the above address. Please contact Ms. Caldwell to schedule an inspection.

FOR FURTHER INFORMATION CONTACT: Ellen Caldwell at (214) 665-7513.

SUPPLEMENTARY INFORMATION: In 1996, two Louisiana environmental groups, the Sierra Club and Louisiana Environmental Action Network (plaintiffs), filed a lawsuit in Federal Court against the EPA, styled Sierra Club, et al. v. Clifford et al., No. 96-0527, (E.D. La.). Among other claims, plaintiffs alleged that EPA failed to establish Louisiana TMDLs in a timely manner. Discussion of the court order may be found at 65 FR 54032 (September 6, 2000).

EPA Seeks Comments on One TMDL

By this notice EPA is seeking comment on the following TMDL for waters located within the Mermentau and Vermilion/Teche basins:

Subsegment | Waterbody name | Pollutant
060204 | Bayou Courtableau—Origin to West Atchafalaya Borrow Pit Canal | Oil and Grease.

EPA requests that the public provide to EPA any water quality related data and information that may be relevant to the calculations for this TMDL, or any other comments relevant to this TMDL. EPA will review all data and information submitted during the public comment period and revise the TMDL where appropriate. EPA will then forward the TMDL to the Court and the Louisiana Department of Environmental Quality (LDEQ). LDEQ will incorporate the TMDL into its current water quality management plan.

Dated: May 3, 2001.
Sam Becker,
Acting Director, Water Quality Protection Division, Region 6.

[FR Doc. 01-12887 Filed 5-22-01; 8:45 am]

BILLING CODE 6560-50-P